INTERNATIONAL TRADE COMMISSION

[Investigation No. 337-TA-1099]

Certain Graphics Processors and Products Containing the Same; Notice of Commission Determination Not To Review an Initial Determination Terminating the Investigation in Its Entirety Based on Settlement; Termination of the Investigation

AGENCY: U.S. International Trade Commission.

ACTION: Notice.

SUMMARY: Notice is hereby given that the U.S. International Trade Commission has determined not to review an initial determination (“ID”) (Order No. 49) terminating the investigation in its entirety based on settlement. The investigation is terminated.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on February 5, 2018, based on a complaint filed by ZiiLabs Inc., Ltd. of Hamilton, Bermuda (“ZiiLabs”). 83 FR 5141-42. The complaint alleges violations of section 337 of the Tariff Act of 1930, as amended, 19 U.S.C. 1337, in the importation into the United States, the sale for importation, and the sale within the United States after importation of certain graphics processors and products containing the same that infringe certain claims of U.S. Patent Nos. 6,181,355; 6,900,800; 8,144,156; and 8,643,659. Id. at 5141. The Commission's notice of investigation named as respondents ASUSTeK Computer Inc. of Taipei, Taiwan; ASUS Computer International of Freemont, California; EVGA Corporation of Brea, California; Gigabyte Technology Co., Ltd. of New Taipei City, Taiwan; G.B.T. Inc. of City of Industry, California; Micro-Star International Co., Ltd. of New Taipei City, Taiwan; MSI Computer Corp. of City of Industry, California; Nintendo Co., Ltd. of Kyoto, Japan; Nintendo of America, Inc. of Redmond, Washington; Nvidia Corporation of Santa Clara, California (“Nvidia”); PNY Technologies Inc. of Parsippany, New Jersey; Zotac International (MCO) Ltd. of Macau, China; and Zotac USA Inc. of Duarte, California. Id. at 5142. The Office of Unfair Import Investigations is not participating in this investigation. Id.

On February 8, 2019, ZiiLabs filed an unopposed motion to terminate the investigation in its entirety based on several settlement agreements among ZiiLabs, Nvidia, and non-party RPX Corporation. The motion indicated that the agreements included a release for all respondents in the investigation.

On February 12, 2019, the presiding administrative law judge issued the subject ID, granting the motion and terminating the investigation. No party petitioned for review of the ID.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: March 6, 2019.
Katherine Hiner,
Acting Secretary to the Commission.

[FR Doc. 2019-04405 Filed 3-11-19; 8:45 am]

BILLING CODE 7020-02-P